DEPARTMENT OF AGRICULTURE

Office of the Secretary

Request for Nominations of Members for the National Agricultural Research, Extension, Education, and Economics (NAREEE) Advisory Board, Specialty Crop Committee (SCC), Citrus Disease Subcommittee (CDS), and National Genetic Resources Advisory Council (NGRAC); Correction

AGENCY: Research, Education, and Economics, United States Department of Agriculture (USDA).

ACTION: Notice of Correction; Solicit nominations for memberships for the NAREEE Advisory Board, SCC, CDS, and the NGRAC.

SUMMARY: The United States Department of Agriculture published a notice of solicitation of nominations for memberships to announce the opening of the solicitation for nominations to fill vacancies on the National Agricultural Research, Extension, Education, and Economics (NAREEE) Advisory Board and its committees and subcommittees for Fiscal Year 2023 and any vacancies that may occur in the current fiscal year in the Federal Register on January 14, 2022 [FR Doc. 2022-00650 Filed 1-13-22; 8:45 a.m.]. This correction Notice (correction) is being issued to direct individuals to the new website link location for the application form (AD-755 Form) https://www.usda.gov/sites/default/files/documents/ad-755.pdf on USDA's website.

FOR FURTHER INFORMATION CONTACT: Kate Lewis, Executive Director, National Agricultural Research, Extension, Education, and Economics Advisory Board, 1400 Independence Avenue SW, Room 6019, The South Building, Washington, DC 20250-2255; telephone: 202-720-3684 or email: nareee@usda.gov. Committee website: https://nareeeab.ree.usda.gov/

SUPPLEMENTARY INFORMATION:

Correction

In FR Doc 2022-00650 on January 14, 2022 (87 FR 2403), in column 1 of page 2404, correct “Instructions” to read:

Instructions

The following information must be included in the package of materials submitted for each; individual being nominated for consideration: (1) AD-755 https://www.usda.gov/sites/default/files/documents/ad-755.pdf. stating your full birth name and completed application in its entirety; (2) A letter(s) of nomination stating the Board (Board Category)/Subcommittee (SCC, CDS, NGRAC) must be identified (3) 1 page bio of nominee; and (4) a current copy of the nominee's resumé. You may apply for as many categories on the Advisory Board and Committees and/or subcommittee(s) and this must be stated in your application and nomination letter(s). Nomination packages may be submitted directly by the individual being nominated or by the person/organization recommending the candidate.

Done at Washington, DC, this day of January 19, 2022.
Cikena Reid,
USDA Committee Management Officer.

[FR Doc. 2022-01574 Filed 1-26-22; 8:45 am]

BILLING CODE 3410-03-P